DEPARTMENT OF HEALTH AND HUMAN SERVICES

Office of the Secretary

[Document Identifier: OS-0990-0000; 60-day notice]

Agency Information Collection Activities: Proposed Collection; Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: New collection.

Title of Information Collection: Homelessness Data for Health and Human Services Mainstream Programs.

Form/OMB No.: 0990-0000.

Use: The Office of the Assistant Secretary for Planning and Evaluation will study data collection practices by Temporary Assistant for Needy Families (TANF) and Medicaid state programs regarding homelessness and housing status. Telephone interviews will be conducted with state officials from all 50 states and the District of Columbia who administer the TANF and Medicaid programs to collect information about the type and quality of data related to homelessness and housing status that are collected from and recorded about TANF and Medicaid applicants. This information will be used to determine whether these two HHS mainstream programs are collecting information from program applicants and/or participants regarding their housing status.

Frequency: One time.

Affected Public: State, Local and Tribal Government.

Annual Number of Respondents: 102.

Total Annual Responses: 102.

Average Burden per Response: 60 minutes.

Total Annual Hours: 102.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be received with 60-days, and directed to the OS Paperwork Clearance Officer at the following address: Department of Health and Human Services, Office of the Secretary, Assistant Secretary for Resources and Technology, Office of Resources Management, Attention: Sherrette Funn-Coleman (0990-0000), Room 537-H, 200 Independence Avenue, SW., Washington, DC 20201.

Dated: May 2, 2007.
Alice Bettencourt,
Office of the Secretary, Paperwork Reduction Act Reports Clearance Officer.

[FR Doc. E7-9068 Filed 5-10-07; 8:45 am]

BILLING CODE 4150-05-P